DEPARTMENT OF HEALTH AND HUMAN SERVICES

Health Resources and Services Administration

Meeting of the Advisory Council on Blood Stem Cell Transplantation

AGENCY: Health Resources and Services Administration (HRSA), Department of Health and Human Services (HHS).

ACTION: Notice.

SUMMARY: In accordance with the Federal Advisory Committee Act (FACA), this notice announces that the Secretary's Advisory Council on Blood Stem Cell Transplantation (ACBSCT) has scheduled a public meeting. Information about ACBSCT and the agenda for this meeting can be found on the ACBSCT website at https://bloodcell.transplant.hrsa.gov/about/advisory_council/meetings/index.html.

DATES: May 7, 2019, 10:00 a.m.-4:00 p.m. Eastern Time.

ADDRESSES: This meeting will be held by webinar. Members of the public can access the webinar link and conference call-in number at https://www.organdonor.gov/about-dot/acot.html.

FOR FURTHER INFORMATION CONTACT: Robert Walsh, Designated Federal Official, (DFO), at Healthcare Systems Bureau, Division of Transplantation, HRSA, 5600 Fishers Lane, 8W60, Rockville, Maryland 20857; 301-443-6839; or RWalsh@hrsa.gov.

SUPPLEMENTARY INFORMATION: ACBSCT provides advice and recommendations to the Secretary of HHS and the HRSA Administrator on the activities of the C.W. Bill Young Cell Transplantation Program (CWBYCTP) and the National Cord Blood Inventory (NCBI) Program. The principal purpose of these programs is to make blood stem cells from adult donors and cord blood units available for patients who need a transplant to treat life-threatening conditions such as leukemia, and who lack a suitably matched relative who can be the donor.

During the May 7, 2019, meeting, members of ACBSCT will discuss issues related utilization of cord blood for transplant and utilization of blood stem cells in cellular therapies. Agenda items are subject to change as priorities dictate. Refer to the ACBSCT website for any updated information concerning the meeting.

Members of the public will have the opportunity to provide comments. Public participants may submit written statements in advance of the scheduled meeting. Oral comments will be honored in the order they are requested and may be limited as time allows. Requests to submit a written statement or make oral comments to ACBSCT should be sent to Robert Walsh, DFO, using the contact information above at least three business days before the meeting.

Individuals who plan to participate in the webinar and need special assistance or other reasonable accommodations should notify Robert Walsh at the address and phone number listed above at least 10 business days before the meeting.

Amy P. McNulty,
Acting Director, Division of the Executive Secretariat.

[FR Doc. 2019-03184 Filed 2-22-19; 8:45 am]

BILLING CODE 4165-15-P